POSTAL REGULATORY COMMISSION

Sunshine Act Meetings

Name of Agency: Postal Regulatory Commission.

Time and Date: October 16, 2008 at 10 a.m.

Place: Commission conference room, 901 New York Avenue, NW., Suite 200, Washington, DC 20268-0001.

Status: Open.

Matters To Be Considered: Selection of vice-chairman.

Contact Person for More Information: Stephen L. Sharfman, general counsel, Postal Regulatory Commission, 202-789-6820.

Dated: October 7, 2008.
Steven W. Williams,
Secretary.

[FR Doc. E8-24233 Filed 10-8-08; 11:15 am]

BILLING CODE 7710-FW-P